DEPARTMENT OF COMMERCE

International Trade Administration

[A-570-831]

Fresh Garlic From the People's Republic of China: Preliminary Rescission of the New Shipper Review

AGENCY: Enforcement and Compliance, International Trade Administration, Department of Commerce.

SUMMARY: The Department of Commerce (Commerce) is conducting a new shipper review of Qingdao Doo Won Foods Co., Ltd. (Doo Won) regarding the antidumping duty order on fresh garlic from the People's Republic of China (China). The period of review (POR) is November 1, 2016, through April 30, 2017. Because we have concluded preliminarily that Doo Won is not the producer of the fresh garlic it exported to the United States, we are preliminarily rescinding this review with respect to Doo Won. Interested parties are invited to comment on these preliminary results.

DATES: Applicable Date: May 17, 2018.

FOR FURTHER INFORMATION CONTACT: Kathryn Wallace, AD/CVD Operations, Office VII, Enforcement and Compliance, International Trade Administration, U.S. Department of Commerce, 1401 Constitution Avenue NW, Washington, DC 20230; telephone: (202) 482-6251.

SUPPLEMENTARY INFORMATION:

Background

On July 10, 2017, Commerce published a notice of initiation of a new shipper review of fresh garlic from the China for the period November 1, 2016, through April 30, 2017.¹ On December 4, 2017, we extended the deadline for the preliminary results to April 30, 2018.² Commerce exercised its discretion to toll all deadlines affected by the closure of the Federal Government from January 20 through 22, 2018.³ The revised deadline for the preliminary results is May 2, 2018.

¹ See Fresh Garlic from the People's Republic of China: Initiation of Antidumping Duty New Shipper Review; 2016-2017, 82 FR 31756 (July 10, 2017).

² See Memorandum “Fresh Garlic from the People's Republic of China—Semiannual Antidumping Duty New Shipper Review (2016-2017): Extension of Deadline for the Preliminary Results of the Review,” dated December 4, 2017. If the new deadline falls on a non-business day, in accordance with Commerce's practice, the deadline will become the next business day.

³ See Memorandum, “Deadlines Affected by the Shutdown of the Federal Government” (Tolling Memorandum),” dated January 23, 2018. All deadlines in this segment of the proceeding have been extended by 3 days.

Scope of the Order

The merchandise covered by this order is all grades of garlic, whether whole or separated into constituent cloves.⁴ The subject merchandise is currently classifiable under the Harmonized Tariff Schedule of the United States (“HTSUS”) subheadings: 0703.20.0000, 0703.20.0005, 0703.20.0010, 0703.20.0015, 0703.20.0020, 0703.20.0090, 0710.80.7060, 0710.80.9750, 0711.90.6000, 0711.90.6500, 2005.90.9500, 2005.90.9700, and 2005.99.9700. A full description of the scope of the order is contained in the Preliminary Decision Memorandum. Although the HTSUS subheadings are provided for convenience and customs purposes, the written product description is dispositive.

⁴ See Memorandum, “Decision Memorandum for the Preliminary Rescission of the Antidumping Duty New Shipper Review of Fresh Garlic from the People's Republic of China: Qingdao Doo Won Foods Co., Ltd.,” dated concurrently with and hereby adopted by this notice (Preliminary Decision Memorandum), for a complete description of the Scope of the Order.

Methodology

Commerce is conducting this review in accordance with section 751(a)(2)(B) of the Tariff Act of 1930, as amended (the Act), and 19 CFR 351.214. For a full description of the methodology underlying our conclusions, see the Preliminary Decision Memorandum. The Preliminary Decision Memorandum is a public document and is on file electronically via Enforcement and Compliance's Antidumping and Countervailing Duty Centralized Electronic Service System (ACCESS). ACCESS is available to registered users at http://access.trade.gov and in Commerce's Central Records Unit, room B8024 of the main Department of Commerce building. In addition, a complete version of the Preliminary Decision Memorandum can be accessed directly on the internet at http://enforcement.trade.gov/frn/. The signed Preliminary Decision Memorandum and the electronic versions of the Preliminary Decision Memorandum are identical in content.

Preliminary Rescission of Doo Won NSR

For the reasons detailed in the Preliminary Decision Memorandum, we preliminarily find that Doo Won's sale under review is bona fide. However, we also preliminarily find that Doo Won is not the producer of the garlic subject to this review and, therefore, does not provide a reasonable or reliable basis for calculating a dumping margin. As a result, we are preliminarily rescinding the new shipper review of Doo Won.

Disclosure and Public Comment

Commerce intends to disclose the analysis performed for these preliminary results to the parties within five days of the date of publication of this notice in accordance with 19 CFR 351.224(b). Interested parties may submit written comments by no later than 30 days after the date of publication of these preliminary results of review.⁵ Rebuttals, limited to issues raised in the written comments, may be filed by no later than five days after the written comments are filed.⁶

⁵ See 19 CFR 351.309(c).

⁶ See 19 CFR 351.309(d).

Any interested party may request a hearing within 30 days of publication of this notice.⁷ Hearing requests should contain the following information: (1) The party's name, address, and telephone number; (2) the number of participants; and (3) a list of the issues to be discussed. Oral presentations will be limited to issues raised in the briefs. If a request for a hearing is made, parties will be notified of the time and date for the hearing to be held at the U.S. Department of Commerce, 1401 Constitution Avenue NW, Washington, DC 20230.⁸

⁷ See 19 CFR 351.310(c).

⁸ See 19 CFR 351.310(d).

Commerce intends to issue the final results of this new shipper review, which will include the results of its analysis of issues raised in any such comments, within 90 days of publication of these preliminary results, pursuant to section 751(a)(2)(B)(iv) of the Act.

Assessment Rates

Upon completion of the final results, pursuant to 19 CFR 351.212(b), Commerce will determine, and the U.S. Customs and Border Protection (CBP) shall assess, antidumping duties on all appropriate entries. If we proceed to a final rescission of the new shipper review, Doo Won's entries will be assessed at the rate entered.⁹ If we do not proceed to a final rescission of the new shipper review, pursuant to 19 CFR 351.212(b)(1), we will calculate importer-specific assessment rates. We will instruct CBP to assess antidumping duties on all appropriate entries covered by this review if any importer-specific assessment rate calculated in the final results of this review is above de minimis.¹⁰

⁹ See 19 CFR 351.212(c).

¹⁰ See 19 CFR 351.106(c)(2).

Cash Deposit Requirements

The following cash deposit requirements will be effective upon publication of the final results or final rescission of this NSR for entries of subject merchandise by Doo Won. If Commerce proceeds to a final rescission of the new shipper review, the cash deposit rate will continue to be the China-wide rate. If we issue final results of the new shipper review for Doo Won, we will instruct CBP to collect cash deposits, effective upon the publication of the final results, at the rates established therein.

Verification

Consistent with 19 CFR 351.307(b)(1)(iv), we intend to verify the information relied upon in making its decision.

Notification to Interested Parties

We are issuing and publishing these results in accordance with sections 751(a)(1) and 771(i)(1) of the Act, and 19 CFR 351.221(b)(4).

Dated: May 2, 2018.
Gary Taverman,
Deputy Assistant Secretary for Antidumping and Countervailing Duty Operations, performing the non-exclusive functions and duties of the Assistant Secretary for Enforcement and Compliance.

Appendix

List of Topics Discussed in the Preliminary Decision Memorandum

I. Summary

II. Background

III. Scope of the Order

IV. Bona Fides Analysis

V. Preliminary Finding That Doo Won Is Not the Producer

VI. Verification

VII. Recommendation

[FR Doc. 2018-10557 Filed 5-16-18; 8:45 am]

BILLING CODE 3510-DS-P